DEPARTMENT OF HEALTH AND HUMAN SERVICES

Centers for Medicare & Medicaid Services

[CMS-1585-N]

Medicare Program: Notice of Two Membership Appointments to the Advisory Panel on Ambulatory Payment Classification Groups

AGENCY: Centers for Medicare & Medicaid Services (CMS), Department of Health and Human Services (HHS).

ACTION: Notice.

SUMMARY: This notice announces two new membership appointments to the Advisory Panel on Ambulatory Payment Classification (APC) Groups (the Panel). The two appointments are for 4-year periods through January 31, 2016. The purpose of the Panel is to review the APC groups and their associated weights, and to advise the Secretary of the Department of Health and Human Services (the Secretary) and the Administrator of the Centers for Medicare & Medicaid Services (the Administrator) concerning the clinical integrity of the APC groups and their weights. The advice provided by the Panel will be considered as CMS prepares its annual updates of the hospital outpatient prospective payment system (OPPS).

FOR FURTHER INFORMATION CONTACT: Paula Smith, the Designated Federal Officer. CMS, Center for Medicare Mail Stop C4-05-13, 7500 Security Boulevard, Baltimore, MD 21244-1850, Phone (410) 786-4709.

Web site: For additional information on the APC meeting dates, agenda topics, copy of the charter, as well as updates to the Panel's activities, search the CMS Web site at: https://www.cms.gov/FACA/05_AdvisoryPanelonAmbulatoryPaymentClassificationGroups.asp#TopOfPage. (Note: There is an UNDERSCORE after FACA/05_; there is no space.)

Advisory Committees' Information Lines: The phone numbers for the CMS Federal Advisory Committee Hotlines are 1-(877) 449-5659 (toll free) and (410) 786-9379 (local).

SUPPLEMENTARY INFORMATION:

I. Background

The Secretary is required by section 1833(t)(9)(A) of the Social Security Act (the Act) (42 U.S.C. 1395l(t)(9)(A)) to consult with an expert outside advisory panel on the clinical integrity of the Ambulatory Payment Classification (APC) groups and their associated weights. The Advisory Panel on APC Groups (the Panel) meets up to three times annually. We will consider the technical advice provided by the Panel as we prepare the proposed and final rules to update the outpatient prospective payment system (OPPS) for the next calendar year.

The Panel shall consist of up to 15 representatives of Medicare providers that are subject to the OPPS, plus a Chair. The Secretary or a designee selects the Panel membership based upon either self-nominations or nominations submitted by Medicare providers and other interested organizations. The Panel presently consists of the following members and a Chair: (The asterisk [*] indicates a Panel member whose term expires on September 30, 2011.)

• Edith Hambrick, M.D., J.D., Chair, CMS Medical Officer.

• Ruth L. Bush, M.D., M.P.H.

• Kari S. Cornicelli, C.P.A., FHFMA.

• Dawn L. Francis, M.D., M.H.S.

• Kathleen Graham, R.N., M.S.H.A.

• Patrick A. Grusenmeyer, Sc.D., FACHE.*

• David A. Halsey, M.D.

• Brian D. Kavanagh, M.D., MPH.

• Judith T. Kelly, R.H.I.T., R.H.I.A., C.C.S.

• Scott Manaker, M.D., Ph.D.

• John Marshall, CRA, RCC, CIRCC, RT(R), FAHRA.

• Agatha Nolan, D.Ph., M.S., FASHP.*

• Randall A. Oyer, M.D.

• Daniel J. Pothen, M.S., RHIA, CHPS.

• Gregory Przybylski, M.D.

• Neville B. Sarkari, M.D., FACP.

II. Provisions of This Notice

On March 25, 2011, a notice appeared in the Federal Register (76 FR 16788), entitled “Medicare Program; Solicitation of Two Nominations to the Advisory Panel on Ambulatory Payment Classification Groups” requesting nominations to the Panel replacing Panel members whose terms would expire on September 30, 2011. As a result of that Federal Register notice, we are announcing two new members to the Panel. Both appointments are for 4-year terms commencing on February 1, 2012.

New Appointments/Reappointments to the Panel—The following are the two new Panel members:

• Marianna V. Spanaki-Varelas, M.D., Ph.D., M.B.A.

• Jacqueline Phillips.

III. Collection of Information Requirements

This document does not impose information collection and recordkeeping requirements. Consequently, it need not be reviewed by the Office of Management and Budget under the authority of the Paperwork Reduction Act of 1995 (44 U.S.C. 35).

(Catalog of Federal Domestic Assistance Program No. 93.773, Medicare—Hospital Insurance; and Program No. 93.774, Medicare—Supplementary Medical Insurance Program)

Dated: September 15, 2011.
Donald M. Berwick,
Administrator, Centers for Medicare & Medicaid Services.

[FR Doc. 2011-27963 Filed 10-27-11; 8:45 am]

BILLING CODE 4120-01-P